DEPARTMENT OF COMMERCE

Submission for OMB Review; Comment Request

The Department of Commerce will submit to the Office of Management and Budget (OMB) for clearance the following proposal for collection of information under the provisions of the Paperwork Reduction Act.

Agency: U.S. Census Bureau.

Title: School District Review Program.

OMB Control Number: 0607-0987.

Form Number(s): NA.

Type of Request: Regular submission.

Number of Respondents: 51.

Estimated Number of Respondents:

Annotation Phase: 51.

Verification Phase: 51.

Estimated Time per Response:

Annotation Phase: 30 hours.

Verification Phase: 10 hours.

Estimated Burden Hours:

Annotation Phase: 1,530 hours.

Verification Phase: 510 hours.

Estimated Total Burden Hours: 2,040 hours.

Needs and Uses: The School District Review Program (SDRP) is one of many voluntary geographic partnership programs at the U.S. Census Bureau. The SDRP collects school district information and boundaries to update the Census Bureau's geographic database of addresses, streets, and boundaries on an annual basis. The Census Bureau uses its geographic database to tie demographic data from surveys and the decennial census to locations and areas, such as cities, school districts, and counties. To tabulate statistics by localities, the Census Bureau must have accurate addresses and boundaries.

The boundaries collected in SDRP and other geographic programs will create census blocks, which are the building blocks for all Census Bureau geographic boundaries. Legal, administrative, and statistical geographies are all used to define block boundaries. While the geographic programs differ in requirements, time frame, and participants, SDRP and the other geographic programs all follow the same basic process:

1. The Census Bureau invites eligible participants to take part in the program. For SDRP, the Census Bureau invites the following state officials: Title I coordinators and mapping coordinators. The Title 1 Coordinator designates the mapping coordinator for the SDRP.

2. If they elect to join the program, the state officials receive a copy of the school district boundaries that the Census Bureau has on file. The Census Bureau also provides SDRP participants with free customized mapping software to facilitate their work.

3. Participants review the boundaries in the Census Bureau-provided digital maps and update them if needed. For SDRP, the state government participants reach out to contacts in school districts across their state to collect updates. State officials will provide the Census Bureau with updates as well as corrections to the federal Local Education Agency (LEA) identification numbers, school district boundaries, school names, grade ranges, and levels for which each school district is financially responsible.

4. Participants return their updates to the Census Bureau. In the SDRP, this is known as the Annotation Phase.

5. The Census Bureau updates its geographic database with boundary updates from participants.

6. The Census Bureau creates maps from its geographic database and sends them to participants for final review. In the SDRP, this is known as the Verification Phase.

7. The Census Bureau uses the newly updated and verified boundaries to tabulate statistics, in particular the Small Area Income and Poverty Estimates (SAIPE) Program's estimates of the number of families with children, aged 5 through 17, in poverty for each school district for the U.S. Department of Education. The U.S. Department of Education uses these estimates to allocate more than $14 billion in Title I funding annually. These Census Bureau estimates are the basis of the Title I allocation for each school district. The SDRP is of vital importance for each state's allocation of funds under Title I of the Elementary and Secondary Education Act (ESEA) as amended by Every Student Succeeds Act of 2015, Public Law 114-95.

The National Center for Education Statistics (NCES) sponsors the SDRP. The NCES identifies a Title I coordinator for each state and the District of Columbia, and the Census Bureau works with the Title I coordinator on identifying a mapping coordinator in each state to work with the Census Bureau to implement this work. The mapping coordinator collects updates from local school districts, state education officials, county planners, and state data centers, and ensures that submissions are completed within the SDRP's time frame.

The SDRP encompasses Type 1 and Type 2 school districts as defined by the NCES. Type 1 is a local school district that is not a component of a supervisory union. Type 2 is a local school district component of a supervisory union sharing a superintendent and administrative services with other local school districts.

The SDRP consists of two phases—the Annotation Phase and the Verification Phase—described below:

Annotation Phase

In the Annotation Phase, mapping coordinators gather school district updates from school district superintendents and other state officials and use Census Bureau-provided materials to review and update school district boundaries, names, codes, and geographic relationships. The Census Bureau provides mapping coordinators with school district listings, spatial data in Esri shapefile format, blank submission logs, and Geographic Update Partnership Software (GUPS). The school district listings consist of school district inventories, school names, levels, grade ranges, and other data about school districts within their state. If the mapping coordinator has non-spatial updates (e.g., name changes, simple consolidations, simple dissolutions, and others), the mapping coordinator updates the Census Bureau-provided submission log with those changes. If a mapping coordinator needs to perform spatial updates to a school district boundary, the mapping coordinator uses Census Bureau-provided GUPS and spatial data to make updates. GUPS, SDRP version, is a Census Bureau-created, user-friendly, free digital mapping tool for mapping coordinators. It contains all the functionality necessary for mapping coordinators to spatially make and validate their school district updates. Once mapping coordinators have reviewed and updated the school district information for their state, the mapping coordinator sends it to the Census Bureau, using Secure Web Incoming Module, a web portal for uploading SDRP submissions. The Census Bureau will update the MAF/TIGER database with the updates sent by the mapping coordinator.

Verification Phase

In the Verification Phase, the Census Bureau sends mapping coordinators newly created listings and digital files, and mapping coordinators use the SDRP verification module in GUPS to review these files and verify that the Census Bureau correctly captured their submitted information. The mapping coordinator can tag the area of issue and send the information to the Census Bureau to make corrections if the Census Bureau did not incorporate their boundary changes or other updates correctly.

Affected Public: All fifty states and the District of Columbia.

Frequency: Annual.

Respondent's Obligation: Voluntary.

Legal Authority: Title 13 U.S.C. Section 16, 141, and 193.

NCES Legal Authority: Title I, Part A of the Elementary and Secondary Education Act as amended by the Every Student Succeeds Act of 2015, Public Law (Pub. L.) 114-95.

This information collection request may be viewed at www.reginfo.gov. Follow the instructions to view Department of Commerce collections currently under review by OMB.

Written comments and recommendations for the proposed information collection should be sent within 30 days of publication of this notice to OIRA_Submission@omb.eop.gov or fax to (202) 395-5806.

Sheleen Dumas,
Departmental Lead PRA Officer, Office of the Chief Information Officer.

[FR Doc. 2018-11100 Filed 5-23-18; 8:45 am]

BILLING CODE 3510-07-P